DEPARTMENT OF COMMERCE

International Trade Administration

[A-475-818, A-489-805]

Certain Pasta From Italy and Türkiye: Final Results of Expedited Fifth Sunset Reviews of the Antidumping Duty Orders

AGENCY: Enforcement and Compliance, International Trade Administration, Department of Commerce.

SUMMARY: As a result of these sunset reviews, the U.S. Department of Commerce (Commerce) finds that revocation of the antidumping duty orders on certain pasta (pasta) from Italy and Türkiye would likely lead to the continuation or recurrence of dumping at the levels indicated in the “Final Results of Review” section of this notice.

DATES: Applicable July 11, 2024.

FOR FURTHER INFORMATION CONTACT: Erin Kearney, AD/CVD Operations, Office VI, Enforcement and Compliance, International Trade Administration, U.S. Department of Commerce, 1401 Constitution Avenue NW, Washington, DC 20230; (202) 482-0167.

SUPPLEMENTARY INFORMATION:

Background

On March 1, 2024, Commerce published the notice of initiation of the fifth sunset reviews of the Orders,¹ pursuant to section 751(c) of the Tariff Act of 1930, as amended (the Act).² On March 14, 2024, Commerce received a notice of intent to participate in the sunset reviews from the following domestic interested parties: 8th Avenue Food & Provisions, Inc., Philadelphia Macaroni Company, and Winland Foods, Inc. (collectively, the domestic interested parties), within the deadline specified in 19 CFR 351.218(d)(1)(i).³ The domestic interested parties claimed interested party status under section 771(9)(C) of the Act as U.S. producers of domestic like product.

¹ See Notice of Antidumping Duty Order and Amended Final Determination of Sales at Less Than Fair Value: Certain Pasta from Italy, 61 FR 38547 (July 24, 1996) (Italy Order); see also Notice of Antidumping Duty Order and Amended Final Determination of Sales at Less Than Fair Value: Certain Pasta from Turkey, 61 FR 38545 (July 24, 1996) (Türkiye Order) (collectively, the Orders).

² See Initiation of Five-Year (Sunset) Reviews, 89 FR 15139 (March 1, 2024) (Initiation Notice).

³ See Domestic Interested Parties' Letter, “Notice of Intent to Participate,” dated March 14, 2024.

On March 29, 2024, the domestic interested parties filed adequate substantive responses within the deadline specified in 19 CFR 351.218(d)(3)(i).⁴ Commerce did not receive a substantive response from any respondent interested party. As a result, pursuant to section 751(c)(3)(B) of the Act and 19 CFR 351.218(e)(1)(ii)(C)(2), Commerce conducted expedited (120-day) sunset reviews of the Orders.

⁴ See Domestic Interested Parties' Letter, “Domestic IPs Substantive Response,” dated March 29, 2024 (Substantive Response).

Scope of the Orders

Italy (A-475-818)

The merchandise subject to the order is pasta. The product is currently classified under subheadings 1901.90.9095 and 1902.19.20 of the Harmonized Tariff Schedule of the United States (HTSUS). The full scope language can be found in the Issues and Decision Memorandum.⁵

⁵ See Memorandum, “Decision Memorandum for the Final Results of the Expedited Fifth Sunset Reviews of the Antidumping Duty Orders on Certain Pasta from Italy and the Republic of Türkiye,” dated concurrently with, and hereby adopted by, this notice (Issues and Decision Memorandum).

Türkiye (A-489-805)

The merchandise subject to the order is pasta. The product is currently classified under subheading 1902.19.20 of the Harmonized Tariff Schedule of the United States (HTSUS). The full scope language can be found in the Issues and Decision Memorandum.⁶

⁶ Id.

Analysis of Comments Received

A complete discussion of all issues raised in these sunset reviews, including the likelihood of continuation or recurrence of dumping in the event of revocation of the Orders and the magnitude of the margins of dumping likely to prevail if the Orders were to be revoked, is provided in the Issues and Decision Memorandum.⁷ A list of the topics discussed in the Issues and Decision Memorandum is attached as an appendix to this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

⁷ Id.

Final Results of Sunset Reviews

Pursuant to sections 751(c)(1) and 752(b) of the Act, Commerce determines that revocation of the Orders would be likely to lead to the continuation or recurrence of dumping, and that the magnitude of the margin of dumping likely to prevail would be up to 20.84 percent for Italy and up to 63.29 percent for Türkiye.

Administrative Protective Order

This notice serves as the only reminder to parties subject to administrative protective order (APO) of their responsibility concerning the disposition of proprietary information disclosed under APO in accordance with 19 CFR 351.305. Timely notification of the return or destruction of APO materials, or conversion to judicial protective order, is hereby requested. Failure to comply with the regulations and terms of an APO is a violation which is subject to sanction.

Notification to Interested Parties

We are issuing and publishing these final results and notice in accordance with sections 751(c), 752(c), and 777(i)(1) of the Act, and 19 CFR 351.218.

Dated: July 1, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margin of Dumping Likely to Prevail

VII. Final Results of Sunset Reviews

VIII. Recommendation

[FR Doc. 2024-15260 Filed 7-10-24; 8:45 am]

BILLING CODE 3510-DS-P